DEPARTMENT OF JUSTICE

Notice of Lodging of Proposed Consent Decree Under The Resource Conservation and Recovery Act

On April 13, 2022, the Department of Justice lodged a proposed Consent Decree with the United States District Court for the Eastern District of Kentucky, in the lawsuit entitled United States of America and Commonwealth of Kentucky v. Cleveland-Cliffs Steel Corporation, Civil Action No. 0:22-CV-00029-HRW.

The plaintiffs filed this lawsuit under the Resource Conservation and Recovery Act. 42 U.S.C. 6928(a). The complaint seeks injunctive relief and civil penalties for nine alleged violations that occurred at a former coke production facility in Ashland, Kentucky. The alleged violations occurred between 2010 and 2012 when AK Steel Corporation owned the facility; AK Steel is now known as Cleveland-Cliffs Steel Corporation. The Consent Decree requires the defendant to pay a $490,000 civil penalty, to conduct site-wide sampling and analysis, and to perform injunctive relief to clean up four specific locations at the facility.

The publication of this notice opens a period for public comment on the Consent Decree. Comments should be addressed to the Assistant Attorney General, Environment and Natural Resources Division, and should refer to United States et al. v. Cleveland-Cliffs Steel Corp., D.J. Ref. No. 90-5-2-1-09449/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined at and downloaded from this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $143.75 (25 cents per page reproduction cost) payable to the United States Treasury.

Jeffrey Sands,
Assistant Section Chief, Environmental Enforcement Section, Environment and Natural Resources Division.

[FR Doc. 2022-08373 Filed 4-19-22; 8:45 am]

BILLING CODE 4410-15-P